DEPARTMENT OF THE INTERIOR

Bureau of Land Management

[LLAZP02000.L54100000.FR0000. LVCLA15A5240.241A; AZA-36488 and AZA-36156]

Notice of Realty Action: Application for Conveyance of Federally Owned Mineral Interests in Maricopa County, AZ

AGENCY: Bureau of Land Management, Interior.

ACTION: Notice.

SUMMARY: The Bureau of Land Management (BLM) is processing an application under section 209 of the Federal Land Policy and Management Act of 1976 (FLPMA) to convey the federally owned mineral interests in a 799.57-acre parcel of land, located in Maricopa County, Arizona, to the surface owner, REO Funding Solution IV, LLC. Publication of this notice temporarily segregates the federally owned mineral interests in the land covered by the application from all forms of appropriation under the public land laws, including the mining laws, for up to 2 years while the BLM processes the application.

DATES: Interested persons may submit written comments to the BLM at the address listed below on or before March 6, 2017.

ADDRESSES: Bureau of Land Management, Phoenix District Office, 21605 North 7th Avenue, Phoenix, AZ 85027. Detailed information concerning this action is available for review at this address.

FOR FURTHER INFORMATION CONTACT: Benedict Parsons, Realty Specialist, at the address above, or by telephone at 623-580-5637, or email at bparsons@blm.gov. Persons who use a telecommunications device for the deaf (TDD) may call the Federal Relay Service at 1-800-877-8339 to contact the above individual during business hours. The Service is available 24 hours a day, 7 days a week, to leave a message or question for the above individual. You will receive a reply during normal business hours.

SUPPLEMENTARY INFORMATION: The BLM is processing an application under section 209 of the Federal Land Policy and Management Act (FLPMA), 43 U.S.C. 1719(b), to convey the federally owned mineral interests that aggregate 799.57 acres, situated in Maricopa County, Arizona. The location of the federally owned mineral interest proposed for conveyance is intended to be identical in location as the privately owned surface interest of the applicant, and is described as follows.

AZA-036156

Gila and Salt River Meridian, Maricopa County, Arizona

T. 6 N., R 4 E.,

Parcel No. 1

A parcel of land situated in the southwest quarter of section 12, being more particularly described as follows:

COMMENCING at the southwest section corner of said section 12, which bears North 89°14′17″ West, a distance of 2644.37 feet from the south ¼ section corner of said section 12;

THENCE South 89°14′17″ East, along the south section line of said southwest ¼ of section 12, a distance of 330.55 feet to the point of beginning;

THENCE North 0°12′34″ West, leaving said south section line, a distance of 1330.92 feet;

THENCE South 88°54′41″ East, a distance of 1198.47 feet;

THENCE South 0°08′53″ East, a distance of 1324.06 feet to a point on said south section line of the southwest ¼;

THENCE North 89°14′17″ West, along said south section line of the southwest ¼, a distance of 1196.92 feet to the point of beginning, containing 36.49 acres of land.

Parcel No. 2

A parcel of land situated in the south half of section 12, being more particularly described as follows:

COMMENCING at the southwest section corner of said section 12, which bears North 89°14′17″ West, a distance of 2644.37 feet from the south ¼ section corner of said section 12;

THENCE South 89°14′17″ East, along the south section line of said southwest ¼ of section 12, a distance of 1527.47 feet to the point beginning;

THENCE North 0°08′53″ West, leaving said south section line, a distance of 1324.06 feet;

THENCE South 88°54′41″ East, a distance of 1208.47 feet;

THENCE South 0°05′10″ East, a distance of 1316.56 feet to a point on the south section line of the southeast ¼ of said Section 12;

THENCE North 89°36′43″ West, along said south section line of the southeast ¼, a distance of 90.00 feet to the south ¼ section corner of said Section 12;

THENCE North 89°14′17″ West, along the south section line of the southwest ¼ of said section 12, a distance of 1116.90 feet to the point of beginning, containing 36.60 acres of land.

Parcel No. 3

A parcel of land situated in the southeast ¼ of section 12, being more particularly described as follows:

COMMENCING at the south ¼ section corner of said section 12, which bears North 89°36′43″ West, a distance of 2633.94 feet from the southeast section corner of said section 12;

THENCE South 89°36′43″ East, along the south section line of the southeast ¼ of said section 12, a distance of 90.00 feet to the point of beginning;

THENCE North 00°05′10″ West, leaving said south section line, a distance of 1316.56 feet;

THENCE South 88°54′51″ East, a distance of 1232.04 feet to a point on the north and south center line of the southeast ¼ of said Section 12;

THENCE South 0°07′39″ West, along said north and south center line of the southeast ¼ of said Section 12, a distance of 1301.46 feet to a point on said south section line of the southeast ¼;

THENCE North 89°36′43″ West, along said south section line, a distance of 1226.97 feet to the point of beginning.

Excluding that portion within the Gift Lode Mining Claim, M.S. 4503, conveyed in U.S. Patent No. 1220768 dated June 23, 1961, and recorded in the records of Maricopa County, Arizona, at Docket 3753, Page 360, containing 35.35 acres of land.

Parcel No. 4

A parcel of land situated in the southwest ¼ of section 12, being more particularly described as follows:

COMMENCING at the southwest section corner of said section 12, which bears North 89°14′17″ West, a distance of 2644.37 feet from the south ¼ section corner of said section 12;

THENCE South 89°14′17″ East, along the south line of said southwest ¼ of section 12, a distance of 330.55 feet;

THENCE North 00°12′34″ West, leaving said south section line, a distance of 1330.92 feet to the point of beginning;

THENCE North 00°12′34″ West, a distance of 1330.92 feet to a point on the east and west center line of Section 12;

THENCE South 88°27′04″ East, along said east and west center line, a distance of 1200.14 feet;

THENCE South 00°08′53″ East, leaving said North line, a distance of 1321.24 feet;

THENCE North 88°54′41″ West, a distance of 1198.47 feet to the point of beginning, containing 36.50 acres of land.

Parcel No. 5

A parcel of land situated in the south ½ of section 12, being more particularly described as follows:

COMMENCING at the southwest section corner of said section 12, which bears North 89°14′17″ West, a distance of 2644.37 feet from the south ¼ section corner of said Section 12;

THENCE South 89°14′17″ East, along the south section line of said southwest ¼ of section 12, a distance of 1527.47 feet;

THENCE North 0°08′53″ West, leaving said south section line, a distance of 1324.06 feet to the point of beginning;

THENCE North 00°08′53″ West, a distance of 1321.24 feet to a point on the east and west center line of said Section 12;

THENCE South 88°27′04″ East, along said east and west center line, a distance of 1120.10 feet to the center ¼ section corner of section 12;

THENCE South 88°27′04″ East, along the east and west center line of said Section 12, a distance of 90.04 feet;

THENCE South 00°05′10″ East, a distance of 1311.49 feet;

THENCE North 88°54′41″ West, a distance of 1208.47 feet to the point of beginning;

Excluding that portion within the Gift Lode Mining Claim, M.S. 4503, conveyed in U.S. Patent No. 1220768 dated June 23, 1961, and recorded in the records of Maricopa County, Arizona, at Docket 3753, Page 360, containing 35.46 acres of land.

Parcel No. 6

A parcel of land situated in the southeast ¼ of section 12, being more particularly described as follows:

COMMENCING at the south ¼ section corner of said section 12, which bears North 89°36′43″ West, a distance of 2633.94 feet from the southeast section corner of said section 12;

THENCE South 89°36′43″ East, along the south section line of the southeast ¼ of said section 12, a distance of 90.00 feet;

THENCE North 00°05′10″ West, leaving said south section line, a distance of 1316.56 feet to the point of beginning;

THENCE North 00°05′10″ West, a distance of 1311.49 feet to a point on the east and west center line of said Section 12;

THENCE South 88°27′04″ East, along the said east and west center line, a distance of 1237.13 feet to a point on the north and south center line of the southeast ¼ of Section 12;

THENCE South 00°07′39″ West, along said north and south center line, a distance of 1301.46 feet;

THENCE North 88°54′41″ West, leaving said north and south center line, a distance of 1232.04 feet to the point of beginning;

Excluding that portion within the Gift Lode Mining Claim, M.S. 4503, conveyed by U.S. Patent No. 1220768 dated June 23, 1961, and recorded in the records of Maricopa County, Arizona, at Docket 3753, Page 360, containing 20.42 acres of land.

Parcel No. 7

A parcel of land situated in the northeast ¼ of section 12, being more particularly described as follows:

COMMENCING at the north ¼ section corner of said Section 12, which bears North 89°57′16″ West, a distance of 2655.53 feet from the northeast section corner of said Section 12;

THENCE South 00°05′11″ East, along the north and south center line of said section 12, a distance of 1150.23 feet to the point of beginning;

THENCE South 88°27′04″ East, leaving said north and south center line, a distance of 1101.27 feet;

THENCE South 00°02′17″ East, a distance of 1451.57 feet, to a point on the east and west center line of said section 12;

THENCE North 88°27′04″ West, along said east and west center line, a distance of 1100.04 feet to the center ¼ section corner of said section 12;

THENCE North 00°05′11″ West, along the north and south center line of said section 12, a distance of 1451.60 feet to the point of beginning;

Excluding that portion within the Gift Lode Mining Claim, M.S. 4503, conveyed by U.S. Patent No. 1220768 dated June 23, 1961, and recorded in the records of Maricopa County, Arizona, at Docket 3753, Page 360, containing 35.47 acres of land.

Parcel No. 8

A parcel of land situated in the northeast ¼ of section 12, being more particularly described as follows:

BEGINNING at the north ¼ section corner of said Section 12, which bears North 89°57′16″ West, a distance of 2655.53 feet from the northeast section corner of said Section 12, being the point of beginning;

THENCE South 89°57′16″ East, along the north section line of the northeast ¼ of said section 12, a distance of 1615.53 feet;

THENCE South 00°02′17″ East, leaving said north section line, a distance of 1522.73 feet;

THENCE North 88°27′04″ West, a distance of 513.91 feet to a point on the east line of Parcel No. 7, hereinbefore described;

THENCE North 00°02′17″ West, a distance of 330.13 feet to the northeast corner of said Parcel No. 7;

THENCE North 88°27′04″ West, a distance of 1101.27 feet to a point on the north and south center line of said Section 12;

THENCE North 00°05′11″ West, along said north and south center line of said Section 12, a distance of 1150.23 feet to the point of beginning, containing 47.32 acres of land.

Parcel No. 9

A parcel of land situated in the northeast ¼ of section 12, being more particularly described as follows:

COMMENCING at the north ¼ section corner of said Section 12, which bears North 89°57′16″ West, a distance of 2655.53 feet from the northeast section corner of said section 12;

THENCE South 89°57′16″ East, along the north section line of said northeast ¼, a distance of 1615.53 feet to the point of beginning;

THENCE South 89°57′16″ East, continuing along said north section line, a distance of 1040.00 feet to the northeast section corner of said Section 12;

THENCE South 00°02′17″ East, along the east section line of said section 12, a distance of 1550.02 feet;

THENCE North 88°27′04″ West, leaving said east section line, a distance of 1040.40 feet;

THENCE North 00°02′17″ West, a distance of 1522.73 feet to the point of beginning, containing 36.68 acres of land.

Parcel Nos. 10 and 11

Sec. 1, NE¼SE¼ and SE¼SE¼, containing 80.00 acres of land (government record area).

Parcel No. 12

A parcel of land situated in the southeast ¼ of section 11, being more particularly described as follows:

BEGINNING at the southeast section corner of section 11, which bears North 89°14′17″ West, a distance of 2644.37 feet from the south ¼ section corner of Section 12, being the point of beginning;

THENCE South 89°59′10″ West, along the south section line of the southeast ¼ of said section 11, a distance of 620.83 feet;

THENCE North 00°11′08″ West, leaving said south section line, a distance of 314.67 feet;

THENCE North 90°00′00″ East, a distance of 620.58 feet, to the east section line of said section 11;

THENCE South 00°13′36″ East, along the east section line of said section 11, a distance of 315.48 feet to the point of beginning, containing 4.48 acres of land.

Parcel No. 13

A parcel of land situated in the southeast ¼ of section 11, being more particularly described as follows:

COMMENCING at the southeast section corner of said section 11, which bears North 89°14′17″ West, a distance of 2644.37 feet from the south ¼ section corner of Section 12;

THENCE South 89°59′10″ West, along the south section line of the southeast ¼ of said section 11, a distance of 1310.93 feet;

THENCE North 00°11′13″ West, a distance of 315.69 feet to the point of beginning;

THENCE North 00°11′13″ West, a distance of 502.94 feet;

THENCE North 89°44′33″ East, a distance of 454.34 feet;

THENCE South 00°11′13″ East, a distance of 504.98 feet, to a point on the north line of Parcel No. 15, hereinafter described;

THENCE North 90°00′00″ West, a distance of 454.34 feet to the point of beginning, containing 5.53 acres of land.

Parcel No. 14

A parcel of land situated in the southeast ¼ of section 11, being more particularly described as follows:

COMMENCING at the southeast section corner of said section 11, which bears North 89°14′17″ West, a distance of 2644.37 feet from the south ¼ section corner of Section 12;

THENCE South 89°59′10″ West, along the south section line of the southeast ¼ of said section 11, a distance of 1310.93 feet;

THENCE North 00°11′13″ West, a distance of 315.69 feet;

THENCE South 90°00′00″ East, a distance of 454.34 feet to the point of beginning;

THENCE North 00°11′13″ West, a distance of 504.98 feet;

THENCE North 89°44′33″ East, a distance of 345.66 feet;

THENCE North 00°11′08″ West, a distance of 549.02 feet;

THENCE North 89°48′47″ East, a distance of 9.99 feet;

THENCE 182.67 feet along an arc of a curve to the right having a radius distance of 135.00 feet, having a central angle of 77°31′39″ and the long chord of which measures South 51°25′14″ East, a distance of 169.05 feet;

THENCE South 12°39′24″ East, a distance of 164.66 feet;

THENCE North 89°44′33″ East, a distance of 332.78 feet, to the east section line of section 11;

THENCE South 00°13′44″ East, along the east section line of said section 11, a distance of 262.91 feet;

THENCE South 00°13′36″ East, a distance of 527.01 feet;

THENCE North 90°00′00″ West, a distance of 620.56 feet, to the northeast corner of Parcel No. 15, hereinafter described;

THENCE North 00°11′08″ West, a distance of 0.85 feet, to the northwest corner of Parcel No. 12, hereinbefore described;

THENCE North 90°00′00″ West, a distance of 235.76 feet to the point of beginning;

EXCEPT that portion located within the NE¼SE¼ of said Section 11, containing 13.53 acres of land.

Parcel No. 15

A parcel of land situated in the southeast ¼ of section 11, being more particularly described as follows:

COMMENCING at the southeast section corner of said Section 11, which bears North 89°14′17″ West, a distance of 2644.37 feet from the south ¼ section corner of Section 12;

THENCE South 89°59′10″ West, along the south section line of the southeast ¼ of said section 11, a distance of 620.83 feet to the point of beginning;

THENCE South 89°59′10″ West, along the south section line of the southeast ¼ of said section 11, a distance of 690.10 feet;

THENCE North 00°11′13″ West, a distance of 315.69 feet;

THENCE North 90°00′00″ East, a distance of 690.10 feet;

THENCE South 00°11′08″ East, a distance of 315.52 feet to the point of beginning, containing 5.00 acres of land.

Parcel No. 16

A parcel of land situated in the southwest ¼ of section 12, being more particularly described as follows:

BEGINNING at the southwest section corner of said section 12, which bears North 89°14′17″ West, a distance of 2644.37 feet from the south ¼ section corner of said Section 12, being the point of beginning;

THENCE South 89°14′17″ East, along the south line of the southwest ¼ of Section 12, a distance of 330.55 feet;

THENCE North 00°13′36″ West, leaving said south line, a distance of 838.92 feet;

THENCE North 88°27′04″ West, a distance of 330.91 feet, to the west section line of said section 12;

THENCE South 00°13′36″ East, along the west section line of said Section 12, a distance of 842.49 feet to the point of beginning, containing 6.38 acres of land.

The areas described for Parcels Nos. 1 through 16 aggregate 435.21 acres.

AZA-036488

Parcel No. 1

Gila and Salt River Meridian, Maricopa County, Arizona

T. 6 N., R. 4 E.,

Sec. 1, east 1210.00 feet of the NE¼SW¼, east 1210.00 feet of the SE¼NW¼, and the east 1210.00 feet of Lot 3.

EXCEPT those portions lying within the following described lands:

EXCEPTION PARCEL NO. 1

BEGINNING at the north ¼ section corner of said section 1, which bears South 89°38′30″ West, a distance of 2652.21 feet from the northwest ¼ section corner of said Section 1, being the point of beginning;

THENCE South 00°10′19″ West, a distance of 1980.03 feet;

THENCE North 89°38′30″ West, a distance of 400.00 feet;

THENCE North 00°10′19″ East, a distance of 1360.76 feet;

THENCE North 89°38′30″ West, a distance of 810.00 feet;

THENCE North 00°10′19″ East, a distance of 619.28 feet to a point on the north line of the northwest ¼ of said section 1;

THENCE South 89°38′29″ East, along said north line, a distance of 1210.00 feet to the point of beginning;

EXCEPTION PARCEL NO. 2

COMMENCING at the north ¼ section corner of said section 1, from which the northwest section corner of said section 1 bears North 89°42′22″ West, a distance of 2652.21 feet;

THENCE North 89°42′22″ West, a distance of 1210.00 feet to the point of intersection with the west line of the east 1210.00 feet of the west ½ of Section 1;

THENCE South 00°06′00″ West along said west line, a distance of 2502.98 feet to the point of beginning;

THENCE South 89°07′50″ East, a distance of 805.67 feet;

THENCE South 15°34′27″ West, a distance of 1473.72 feet to the point of intersection with the east and west center line of the southwest ¼ of said Section 1;

THENCE North 88°24′21″ West, along said east and west center line, a distance of 415.55 feet to the point of intersection with the aforementioned west line of the east 1210.00 feet of the west ½ of Section 1;

THENCE North 00°06′00″ East along said west line, a distance of 1420.32 feet to the point of beginning.

Containing 59.80 acres of land.

Parcel No. 2

Sec. 1, lots 1 and 2, S½NE¼, NE¼NW¼SE¼, S½NW¼SE¼, N½SW¼SE¼, SW¼SW¼SE¼, and N½SE¼SW¼SE¼.

Containing 224.56 acres of land.

Parcel No. 3

Sec. 12, E½SE¼.

Containing 80.00 acres of land.

The areas described for Parcels Nos. 1 through 3 aggregate 364.36 acres.

Section 209(b) of the FLPMA authorizes the conveyance of the federally owned mineral interests in land to the surface owner when the surface interest is not federally owned, upon payment of administrative costs. The objective is to allow consolidation of the surface and mineral interests when either one of the following conditions exist: (1) There are no known mineral values in the land; or (2) Where continued Federal ownership of the mineral interests interferes with or precludes appropriate non-mineral development and such development is a more beneficial use of the land than mineral development.

The applicant has deposited, a sum of funding sufficient to cover administrative costs, but not limited to, the cost for the mineral potential report.

Subject to valid existing rights, on January 19, 2017 the federally owned mineral interests in the land described above are hereby segregated from all forms of appropriation under the public lands laws, including the mining laws, while the application is being processed to determine if either one of the two specified conditions exists and, if so, to otherwise comply with the procedural requirements of 43 CFR part 2720. The segregative effect shall terminate upon: (1) Issuance of a patent or other document of conveyance as to such mineral interests; (2) Final rejection of the application; or (3) January 22, 2019, whichever occurs first.

Please submit all comments in writing to Benedict Parsons at the address listed above. Before including your address, phone number, email address, or other personal identifying information in your comment, you should be aware that your entire comment, including your personal identifying information, may be made available to the public at any time. While you can ask in your comment to withhold your personal identifying information from public review, we cannot guarantee that we will be able to do so.

Authority: 43 CFR 2720.1-1.

Leon Thomas,
Phoenix District Manager.

[FR Doc. 2017-01203 Filed 1-18-17; 8:45 am]

BILLING CODE 4310-32-P